DEPARTMENT OF LABOR

Mine Safety and Health Administration

30 CFR Parts 70, 72, 75, and 90

RIN 1219-AB14; 1219-AB18

Verification of Underground Coal Mine Operators' Dust Control Plans and Compliance Sampling for Respirable Dust; Determination of Concentration of Respirable Coal Mine Dust

AGENCY: Mine Safety and Health Administration (MSHA), Labor.

ACTION: Proposed rules; notice of public hearings; close of record.

SUMMARY: MSHA will hold public hearings to receive comments on the proposed rule addressing Verification of Underground Coal Mine Operators' Dust Control Plans and Compliance Sampling for Respirable Dust (Plan Verification), and the notice of reopening addressing Determination of Concentration of Respriable Coal Mine Dust (Single Sample), both published in the Federal Register on March 6, 2003.

These hearings will be held pursuant to section 101 (30 U.S.C. 811) of the Federal Mine Safety and Health Act of 1977 (Mine Act).

DATES: Post-hearing comments must be received on or before June 4, 2003.

The public hearing dates and locations are listed in the Public Hearings section below under SUPPLEMENTARY INFORMATION.

If individuals or organizations wish to make an oral presentation for the record, please submit your request at least 5 days prior to the hearing date.

ADDRESSES: You may use mail, facsimile (fax), or electronic mail to send us your requests to make oral presentations at the public hearings. Clearly identify your requests and send them (1) By mail to MSHA, Office of Standards, Regulations, and Variances, 1100 Wilson Blvd., Room 2313, Arlington, Virginia 22209-3939; (2) By fax to (202) 693-9441; or (3) By electronic mail to: comments@msha.gov.

FOR FURTHER INFORMATION CONTACT: Marvin W. Nichols, Jr., Director, Office of Standards, Regulations and Variances, MSHA; phone: (202) 693-9440; facsimile: (202) 693-9441; E-mail: nichols-marvin@msha.gov.

SUPPLEMENTARY INFORMATION:

I. Background

On March 6, 2003, (68 FR 10784), MSHA published a proposed rule in the Federal Register that would require mine operators to verify through sampling the effectiveness of the dust control parameters for each mechanized mining unit (MMU) specified in the approved mine ventilation plan. For samples to be valid, the operator would be required to sample on a production shift during which the amount of material produced by an MMU is at or above the verification production level using only the dust control parameters listed in the ventilation plan.

The use of approved powered, air-purifying respirators (PAPRs) and/or verifiable administrative controls would be allowed as a supplemental means of compliance when MSHA determines that all feasible engineering or environmental controls are being used. The proposed rule would also rescind operator compliance sampling in underground coal mines. The use of a personal, continuous dust monitor (PCDM), once developed and approved, could be used by an operator in conjunction with the dust control parameters specified in the mine ventilation plan. The proposed rule would significantly improve miners' health protection by limiting the exposure of individual miners to respirable coal mine dust.

Also, on March 6, 2003 (68 FR 10940), the Secretaries of Labor and Health and Human Services published a notice, “Determination of Concentration of Respirable Coal Mine Dust (Single Sample),” reopening the rulemaking record on a July 7, 2000 joint proposed rule that would determine that the average concentration of respirable dust to which each miner in the active workings of a coal mine is exposed can be accurately measured over a single shift. In that proposed rule the Secretaries proposed to rescind a previous 1972 finding by the Secretary of the Interior and the Secretary of Health, Education and Welfare, on the accuracy of single shift sampling (63 FR 42068).

The Agency will hold public hearings to receive further comment on the Plan Verification proposed rule and the Single Sample proposed rule.

II. Public Hearings

The public hearings will begin at 8 a.m. each day and end after the last scheduled speaker.

The public hearings will be held on the following dates and at the following locations:

Date | Location | Phone
May 6, 2003 | Holiday Inn at the Meadows 340 Racetrack Road Washington, PA 15301 | (724) 222-6200
May 8, 2003 | Country Inn & Suites by Carlson 105 Alex Lane Charleston, WV 25304 | (304) 925-4300
May 13, 2003 | Holiday Inn 4101 U.S. Highway 41 North Evansville, IN 47711 | (812) 424-6400
May 15, 2003 | Sheraton Suites Lexington 2601 Richmond Road Lexington, KY 40509 | (859) 268-0060
May 20, 2003 | Holiday Inn Birmingham Airport 5000 Richard Arrington Blvd. Birmingham, AL 35212 | (205) 591-6900
May 22, 2003 | Holiday Inn Grand Junction 755 Horizon Drive Grand Junction, CO 81506 | (970) 243-6790

III. Conduct of Public Hearings

The hearings will begin with an opening statement from MSHA, followed by an opportunity for members of the public to make oral presentations. You do not have to make a written request to speak. Speakers will speak in the order that they sign in. Any unalloted time will be made available for persons making same-day requests. At the discretion of the presiding official, the time allocated to speakers for their presentation may be limited. Speakers and other attendees may also present information to the MSHA panel for inclusion in the rulemaking record.

The hearings will be conducted in an informal manner. The hearing panel may ask questions of speakers. Although formal rules of evidence or cross-examination will not apply, the presiding official may exercise discretion to ensure the orderly progress of the hearing and may exclude irrelevant or unduly repetitious material and questions.

A verbatim transcript of the proceedings will be prepared and made a part of the rulemaking record. The transcripts will be made available for public review and can be accessed from MSHA's hompage at http://www.msha.gov, Statutory and Regulatory Information, Comments and Hearing Transcripts.

We will accept additional written comments and other appropriate data for the record from any interested party, including those not presenting oral statements. Written comments and data submitted to us will be included in the rulemaking record.

IV. Close of Rulemaking Record

To allow for the submission of post-hearing comments, the rulemaking record will remain open until June 4, 2003.

Dated: March 11, 2003.
John R. Caylor,
Deputy Assistant Secretary of Labor for Mine Safety and Health.

[FR Doc. 03-6220 Filed 3-14-03; 8:45 am]

BILLING CODE 4510-43-P